DEPARTMENT OF HEALTH AND HUMAN SERVICES

National Institutes of Health

White House Commission on Complementary and Alternative Medicine Policy; Meeting

Notice is hereby given that the White House Commission on Complementary and Alternative Medicine Policy will convene a Town Hall Meeting. Additional Town Hall meetings are anticipated at future dates and other locations. The purpose of the meeting is to convene the Commission for a public hearing and to begin receiving public testimony from individuals and organizations interested in the subject of federal policy regarding complementary and alternative medicine. Comments received at the meeting will be used by the Commission to identify and frame the issues and develop the agenda for subsequent meetings.

Comments should focus on the four areas that follow. Questions for consideration include, but are not limited to those presented below. For each question, please consider including in your response concerns, possible obstacles, existing programs, and suggested solutions to guide the Commission in their deliberations.

I. Coordinated Research and Development To Increase Knowledge of Complementary and Alternative Medicine Practices and Interventions

(A) What can be done to expand the current research environment so that practices and interventions that lie outside conventional science are adequately and appropriately addressed?

(B) What types of incentives are needed to stimulate the research of CAM practices and interventions by the public and private sectors?

(C) How can we more effectively integrate the CAM and conventional research communities to stimulate and coordinate research?

II. Guidance for Access to, Delivery of, and Reimbursement for Complementary and Alternative Medicine Practices and Interventions

(A) Do you have ready access to CAM practices and interventions?

(B) How can access to safe and effective CAM practices and interventions be improved?

(C) What types of CAM practices and interventions should be reimbursable through federal programs or other health care coverage systems?

III. Training, Education, Certification, Licensure, and Accountability of Health Care Practitioners in Complementary and Alternative Medicine

(A) How can uniform standards of education, training, licensure and certification be applied to all CAM practitioners?

(B) What training and education should be required of all health care providers to assure access to safe and effective CAM practices and interventions?

(C) What sources of funds exist for the education and training of CAM practitioners?

(D) Are performance standards or practice guidelines needed to ensure the public will have access to the full range of safe and effective CAM practices and interventions?

IV. Delivery of Reliable and Useful Information on Complementary and Alternative Medicine to Health Care Professionals and the Public

(A) How can useful, reliable, and updated information about CAM practices and interventions be made more accessible? How would you like to receive such information?

(B) As a consumer, what kinds of information about CAM practices and interventions are most needed and important to you?

(C) As a health care provider, what kinds of information about CAM practices and interventions are most needed and important to you?

The Town Hall Meeting is open to the public and opportunities for oral comments and written statements by the public will be provided.

Name of Committee: The White House Commission on Complementary and Alternative Medicine Policy.

Date and Time: September 8, 2000; 8:30 a.m.-6 p.m.

Place: Holiday Inn Golden Gateway Hotel; 1500 Van Ness Avenue, San Francisco, CA 94109.

Contact Person: Stephen C. Groft, Executive Director, or Michele Chang, MPH, Executive Secretary; 6701 Rockledge Drive; Room 1010, MSC-7707, Bethesda, MD 20817-7707; Phone: (301) 435-7592; Fax (301) 480-1691; E-mail: WHCCAMP@nih.gov.

The President established the White House Commission on Complementary and Alternative Medicine Policy on March 7, 2000 by Executive Order 13147. The mission of the White House Commission on Complementary and Alternative Medicine Policy is to provide a report, through the Secretary of the Department of Health and Human Services, on legislative and administrative recommendations for assuring that public policy maximizes the benefits of complementary and alternative medicine to Americans.

Because of the need to obtain the views of the public on these issues as soon as possible and because of the early deadline for the report required of the Commission, this notice is being provided at the earliest possible time.

Public Participation: The Town Hall meeting is open to the public with attendance limited by the availability of space on a first come, first serve basis. Members of the public who wish to present oral comment may register by calling 1-800-953-3298 or by accessing https://safe2.sba.com/whccamp/index.cfm no later than September 1, 2000.

Oral comments will be limited to five minutes. Individuals who register to speak will be assigned in the order in which they registered. Due to time constraints, only one representative from each organization will be allotted time for oral testimony. The number of speakers and the time allotted may also be limited by the number of registrants. All requests to register should include the name, address, telephone number, and business or professional affiliation of the interested party, and should indicate the area of interest or question (as described above) to be addressed. Individuals interested in attending the meeting to observe the proceedings but not to provide oral testimony should also register.

Any person attending the meeting who has not registered to speak in advance of the meeting will be allowed to make a brief oral statement at the conclusion of the morning and afternoon sessions, if time permits, and at the chairperson's discretion.

Individuals unable to attend the meeting, or any interested parties, may send written comments by mail, fax, or electronically to the staff office of the Commission for inclusion in the public record. When mailing or faxing written comments provide, if possible, an electronic version on diskette.

Persons needing special assistance, such as sign language interpretation or other special accommodations, should contact the Commission staff at the address or telephone number listed no later than September 1, 2000.

Dated: August 15, 2000.
LaVerne Y. Stringfield,
Director, Office of Federal Advisory Committee Policy.

[FR Doc. 00-21360 Filed 8-21-00; 8:45 am]

BILLING CODE 4140-01-M